DEPARTMENT OF ENERGY

Federal Energy Regulatory Commission

Combined Notice of Filings #1

Take notice that the Commission received the following electric rate filings:

Docket Numbers: ER09-1400-004.

Applicants: Milford Wind Corridor Phase I, LLC.

Description: Milford Wind Corridor Phase I, LLC submits Change in Status Notice.

Filed Date: 05/13/2011.

Accession Number: 20110513-5175.

Comment Date: 5 p.m. Eastern Time on Friday, July 08, 2011.

Docket Numbers: ER10-2651-001.

Applicants: Lockhart Power Company.

Description: Lockhart Power Company submits its Triennial Market Power Analysis.

Filed Date: 06/16/2011.

Accession Number: 20110616-5131.

Comment Date: 5 p.m. Eastern Time on Monday, August 15, 2011.

Docket Numbers: ER11-2544-002.

Applicants: New York Independent System Operator, Inc.

Description: New York Independent System Operator, Inc. submits tariff filing per 35: NYISO Compliance Filing to Revise Specified Effective Date to be effective 6/30/2011.

Filed Date: 06/16/2011.

Accession Number: 20110616-5088.

Comment Date: 5 p.m. Eastern Time on Thursday, July 07, 2011.

Docket Numbers: ER11-3460-001.

Applicants: Bayonne Energy Center, LLC.

Description: Bayonne Energy Center, LLC submits tariff filing per 35.17(b): Amendment to MBR Application to be effective 4/28/2011.

Filed Date: 06/17/2011.

Accession Number: 20110617-5097.

Comment Date: 5 p.m. Eastern Time on Monday, June 27, 2011.

Docket Numbers: ER11-3810-000.

Applicants: Southwest Power Pool, Inc.

Description: Southwest Power Pool, Inc. submits tariff filing per 35.13(a)(2)(iii: Amendment to Attachment V of the Tariff to be effective 8/16/2011.

Filed Date: 06/16/2011.

Accession Number: 20110616-5059.

Comment Date: 5 p.m. Eastern Time on Thursday, July 07, 2011.

Docket Numbers: ER11-3811-000.

Applicants: Public Service Company of Colorado.

Description: Public Service Company of Colorado submits tariff filing per 35: 20110616_Compliance Filing Redesignating Rate Schedule No. 6 to be effective N/A.

Filed Date: 06/16/2011.

Accession Number: 20110616-5068.

Comment Date: 5 p.m. Eastern Time on Thursday, July 07, 2011.

Docket Numbers: ER11-3812-000.

Applicants: LSP Energy Limited Partnership.

Description: LSP Energy Limited Partnership submits tariff filing per 35.1: Baseline Filing of Market-Based Rate Tariff to be effective 6/16/2011.

Filed Date: 06/16/2011.

Accession Number: 20110616-5072.

Comment Date: 5 p.m. Eastern Time on Thursday, July 07, 2011.

Docket Numbers: ER11-3813-000.

Applicants: Allegheny Energy Supply Company, LLC.

Description: Allegheny Energy Supply Company, LLC submits tariff filing per 35: AE Supply Compliance ER11-2942 to be effective 6/1/2011.

Filed Date: 06/16/2011.

Accession Number: 20110616-5089.

Comment Date: 5 p.m. Eastern Time on Thursday, July 07, 2011.

Docket Numbers: ER11-3814-000.

Applicants: New York Independent System Operator, Inc.

Description: New York Independent System Operator, Inc. submits tariff filing per 35.13(a)(2)(iii: 205 Filing of NYISO PJM JOA Schedules A and B to be effective 8/16/2011.

Filed Date: 06/16/2011.

Accession Number: 20110616-5110.

Comment Date: 5 p.m. Eastern Time on Thursday, July 07, 2011.

Docket Numbers: ER11-3815-000.

Applicants: FirstEnergy Solutions Corp.

Description: FirstEnergy Solutions Corp. submits tariff filing per 35.15: Cancellation of Tariff for Sales to be effective 6/18/2011.

Filed Date: 06/17/2011.

Accession Number: 20110617-5039.

Comment Date: 5 p.m. Eastern Time on Friday, July 08, 2011.

Docket Numbers: ER11-3816-000.

Applicants: PacifiCorp.

Description: PacifiCorp submits tariff filing per 35.13(a)(2)(iii: Nevada Power Transmission Facilities Agreement to be effective 6/17/2011.

Filed Date: 06/17/2011.

Accession Number: 20110617-5083.

Comment Date: 5 p.m. Eastern Time on Friday, July 08, 2011.

Docket Numbers: ER11-3818-000.

Applicants: LSP Energy Limited Partnership.

Description: LSP Energy Limited Partnership submits tariff filing per 35.13(a)(2)(iii: Tariff Amendment to be effective 8/16/2011.

Filed Date: 06/17/2011.

Accession Number: 20110617-5100.

Comment Date: 5 p.m. Eastern Time on Friday, July 08, 2011.

Docket Numbers: ER11-3819-000.

Applicants: Tampa Electric Company.

Description: Tampa Electric Company submits tariff filing per 35.13(a)(2)(iii: Amendment of Rate Schedule No. 54_Cancellation of Schedule J to be effective 5/2/2011.

Filed Date: 06/17/2011.

Accession Number: 20110617-5107.

Comment Date: 5 p.m. Eastern Time on Friday, July 08, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: June 17, 2011.
Nathaniel J. Davis, Sr.,
Deputy Secretary.

[FR Doc. 2011-15713 Filed 6-22-11; 8:45 am]

BILLING CODE 6717-01-P